CORPORATION FOR NATIONAL AND COMMUNITY SERVICE

Sunshine Act Meeting Notice

The White House Council for Community Solutions gives notice of the following meeting:

DATE AND TIME: Friday, February 3, 2012, 12:15-1:15 p.m. Eastern Standard Time.

PLACE: The Council will meet via phone conference call. The meeting will be open to the public in Listen-Only mode and it will be recorded. To dial in, please call (866) 525-0652. More details and materials will be available on the Council's Web site (http://www.serve.gov/communitysolutions) on Thursday, February 2nd.

PUBLIC COMMENT: The public is invited to submit publicly available comments through the Council's Web site. To send statements to the Council, please send written statements to the Council's electronic mailbox at WhiteHouseCouncil@cns.gov. The public can also follow the Council's work by visiting its Web site: http://www.serve.gov/communitysolutions.

STATUS: Open.

MATTERS TO BE CONSIDERED: Following the Administration's Summer Jobs Plus announcement on January 4, the Council launched a 100-day initiative to unite all citizens to go “All In” for youth. The purpose of this meeting is to review the Council's efforts to-date and plan next steps for continuing to raise awareness about the need to address the issue of disconnected youth.

CONTACT PERSON FOR MORE INFORMATION: Leslie Boissiere, Executive Director, White House Council for Community Solutions, Corporation for National and Community Service, 10th Floor, Room 10911, 1201 New York Avenue NW., Washington, DC 20525. Phone: (202) 606-3910. Fax: (202) 606-3464. Email: WhiteHouseCouncil@cns.gov.

Dated: January 18, 2012.
Leslie Boissiere,
Executive Director, White House Council for Community Solutions.

[FR Doc. 2012-1271 Filed 1-18-12; 4:15 pm]

BILLING CODE 6050-$$-P